DEPARTMENT OF ENERGY

Federal Energy Regulatory Commission

[Project No. 13558-000]

Lock+ Hydro Friends Fund XXVIV, LLC; Notice of Preliminary Permit Application Accepted for Filing and Soliciting Comments, Motions To Intervene, and Competing Applications

December 7, 2009.

On July 17, 2009, Lock+ Hydro Friends Fund XXVIV, LLC filed an application for a preliminary permit, pursuant to section 4(f) of the Federal Power Act, proposing to study the feasibility of the Project Green Voodoo, which would be located at the U.S. Army Corps of Engineer's Red River Lock and Dam No. 1 on the Red River near the town of Marksville, Catahoula Parish, LA. The sole purpose of a preliminary permit, if issued, is to grant the permit holder priority to file a license application during the permit term. A preliminary permit does not authorize the permit holder to perform any land disturbing activities or otherwise enter upon lands or waters owned by others without the owners' express permission.

The proposed project would consist of the following:

(1) One lock frame module consisting of nine turbines placed in a concrete-lined conduit of unknown dimensions. The module would be located adjacent to and east of the Corps dam; and (2) a proposed 69 kV transmission line approximately 13 miles long extending from the turbine units to a transfer station near the town of Marksville. The project would have an estimated annual generation of 37,277 megawatt-hours.

Applicant Contact: Wayne F. Krouse; Hydro Green Energy, LLC; 5090 Richmond Avenue #390; Houston, TX 77056; phone: (877) 556-6566 x709.

FERC Contact: Monte TerHaar at monte.terhaar@ferc.gov or phone 202-502-6035.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13558) in the docket number field to access the document. For assistance, contact FERC Online Support.

Kimberly D. Bose,
Secretary.

[FR Doc. E9-29625 Filed 12-11-09; 8:45 am]

BILLING CODE 6717-01-P